Title 3—

The President

Proclamation 10007 of April 3, 2020

Education and Sharing Day, U.S.A., 2020

By the President of the United States of America

A Proclamation

Preparing the next generation to lead lives of purpose and significance is one of our foremost responsibilities. Education is essential to cultivating a spirit of curiosity and learning, developing character and conscience, and strengthening the will to work collaboratively. On Education and Sharing Day, we pay tribute to the family members, educators, mentors, clergy members, and other community leaders who invest in the lives of our Nation's youth through education and fostering kindness and caring for one another.

Today, we celebrate Rabbi Menachem Mendel Schneerson, the Lubavitcher Rebbe, a compassionate and visionary leader whose influence continues unabated since his passing more than a quarter century ago. This year marks 70 years since Rabbi Schneerson assumed leadership of the international Chabad-Lubavitch movement, building the faith-based network into a dynamic force for good which affects millions of people around the world. Although he witnessed the unimaginable tragedies that beset the world during World War II, the Holocaust, and the oppression and violence of the Cold War, the Lubavitcher Rebbe retained his fundamental belief in the potential of all people and the liberating nature of education. Committed to the idea that education must “pay more attention, indeed the main intention, to the building of character, with emphasis on moral and ethical values,” he established schools and centers for education, service, and spiritual growth on college campuses and in communities across our Nation and around the world. His legacy and enduring commitment to young people continue as examples of selfless service and devotion for all who know the story of his purposeful life.

Knowledge inspired by unwavering virtue and commitment to faith were central to the Lubavitcher Rebbe's life and mission. When put into practice, these values empower people of all ages to fulfill their unique purpose, and in turn to enhance and enrich our great Nation. On this day, let us acknowledge that each person has a unique purpose that can be unleashed through an individual, whole-of-person approach to education, and let us renew our commitment to supporting education as a means by which individuals may grow their gifts, develop their talents, and fulfill their God-given potential. May we work to shape a brighter future by preserving these foundations of freedom and fellowship for generations to come.

NOW, THEREFORE, I, DONALD J. TRUMP, President of the United States of America, by virtue of the authority vested in me by the Constitution and the laws of the United States, do hereby proclaim April 5, 2020, as “Education and Sharing Day, U.S.A.” I call upon all government officials, educators, volunteers, and all the people of the United States to observe this day with appropriate programs, ceremonies, and activities.

IN WITNESS WHEREOF, I have hereunto set my hand this third day of April, in the year of our Lord two thousand twenty, and of the Independence of the United States of America the two hundred and forty-fourth.

[FR Doc. 2020-07529

Filed 4-7-20; 8:45 am]

Billing code 3295-F0-P